DEPARTMENT OF TRANSPORTATION

Federal Railroad Administration

[Docket No. FRA-2014-0011-N-02]

Proposed Renewal of Agency Information Collection Activities

AGENCY: Federal Railroad Administration (FRA), Department of Transportation (DOT).

ACTION: Notice and request for comments.

SUMMARY: Under the Paperwork Reduction Act of 1995 (PRA), this notice announces that FRA is forwarding the renewal and reinstatement of the Information Collection Request (ICR) abstracted below to the Office of Management and Budget (OMB) for review, comment, and approval. The ICR describes the information collections and the expected burden. On December 6, 2016, FRA published a notice providing a 60-day period for public comment on the ICR.

DATES: Comments must be submitted on or before April 13, 2017.

FOR FURTHER INFORMATION CONTACT: Ms. Kim Toone, Information Collection Clearance Officer, Office of Administration, Office of Information Technology, RAD-20, Federal Railroad Administration, 1200 New Jersey Avenue SE., Mail Stop 35, Washington, DC 20590 (Telephone: (202) 493-6132).

SUPPLEMENTARY INFORMATION: The PRA, 44 U.S.C. 3501-3520, and its implementing regulations, 5 CFR part 1320, require Federal agencies to issue two notices seeking public comment on information collection activities before OMB may approve paperwork packages. 44 U.S.C. 3506, 3507; 5 CFR 1320.5, 1320.8(d)(1), 1320.10, and 1320.12. On December 6, 2016, FRA published a 60-day notice in the Federal Register soliciting comment on the ICR for which it is now seeking OMB approval. See 81 FR 88001. FRA received no comments in response to this notice. Before OMB decides whether to approve these proposed collections of information, it must provide 30 days for public comment. OMB must approve or disapprove paperwork packages between 30 and 60 days after the 30-day notice is published. 44 U.S.C. 3507(b)-(c); 5 CFR 1320.10(b), 1320.12(d). OMB believes the 30-day notice gives the regulated community opportunity to file relevant comments and affords the agency adequate time to digest public comments before it renders a decision. 60 FR 44983, Aug. 29, 1995. Therefore, respondents should submit comments to OMB within 30 days of this notice's publication to ensure their consideration. Id. The summary below describes the ICR and its expected burden.

Title: Generic Clearance for the Collection of Qualitative Feedback on Agency Service Delivery.

OMB Control Number: 2130-0593.

Abstract: This collection of information is necessary to enable FRA to garner customer and stakeholder feedback in an efficient and timely manner, consistent with our commitment to improving service delivery. The information collected from our customers and stakeholders will help ensure users have an effective, efficient, and satisfying experience with FRA's programs. This feedback will provide insights into customer or stakeholder perceptions, experiences, and expectations, provide an early warning of issues with service, and focus attention on areas where communication, training or changes in operations might improve delivery of products or services. These collections will allow ongoing, collaborative, and actionable communications between FRA and its customers and stakeholders. It also allows feedback to contribute directly to the improvement of program management.

Improving FRA's programs requires ongoing assessment of service delivery, meaning a systematic review of the operation of a program compared to a set of explicit or implicit standards as a means of contributing to the continuous improvement of the program. FRA will collect, analyze, and interpret information gathered through this generic clearance to identify strengths and weaknesses of current services and make improvements in service delivery based on feedback. The solicitation of feedback will target areas such as: Timeliness, appropriateness, accuracy of information, courtesy, efficiency of service delivery, and resolution of issues with service delivery. FRA will assess responses to plan and inform efforts to improve or maintain the quality of service offered to the public. If this information is not collected, vital feedback from customers and stakeholders on FRA's services will be unavailable.

Type of Request: Extension without change of a previously approved collection.

Affected Public: Individuals and Households, Business and Organizations, State, Local, or Tribal Governments.

Form(s): N/A.

Total Estimated Annual Responses: 2100.

Total Estimated Annual Burden: 354 hours.

Addressee: Send comments regarding these information collections to the Office of Information and Regulatory Affairs, Office of Management and Budget, 725 17th Street NW., Washington, DC 20503, Attention: FRA Desk Officer. Comments may also be sent via email to OMB at the following address: oira_submissions@omb.eop.gov.

Comments are invited on the following: Whether the proposed collections of information are necessary for DOT to properly perform its functions, including: (1) Whether the information will have practical utility; (2) the accuracy of DOT's estimates of the burden of the proposed information collections; (3) ways to enhance the quality, utility, and clarity of the information to be collected; and (4) ways to minimize the burden of the collections of information on respondents, including the use of automated collection techniques or other forms of information technology.

A comment to OMB is best assured of having its full effect if OMB receives it within 30 days of publication of this notice in the Federal Register.

Authority: 44 U.S.C. 3501-3520; E.O. 12862, 58 FR 48257, Sep. 11, 1993; E.O. 13571, 76 FR 24339, April 27, 2011.

Sarah L. Inderbitzin,
Acting Chief Counsel.

[FR Doc. 2017-05052 Filed 3-13-17; 8:45 am]

BILLING CODE 4910-06-P